DEPARTMENT OF HOMELAND SECURITY

Coast Guard

33 CFR Part 100

[Docket No. USCG-2026-0026]

Special Local Regulations; Recurring Marine Events, Sector St. Petersburg

AGENCY: Coast Guard, DHS.

ACTION: Notification of enforcement of regulation.

SUMMARY: The Coast Guard will enforce the special local regulation for the Bradenton Area River Regatta on February 21, 2026, to provide for the safety of life on navigable waterways during this event. Our regulation for marine events for Sector St. Petersburg identifies the regulated area for this event in Bradenton, FL. During the enforcement period, no person or vessel may enter, transit through, anchor in, or remain within the regulated area unless authorized by the Coast Guard Patrol Commander or a designated representative.

DATES: The regulations in 33 CFR 100.703 will be enforced for the regulated area listed in Item No. 2 in Table 1 to § 100.703 from 10 a.m. through 5 p.m. on February 21, 2026.

FOR FURTHER INFORMATION CONTACT: If you have questions about this notification of enforcement, call or email Lieutenant Ryan McNaughton, Sector St. Petersburg Prevention Department, U.S. Coast Guard; telephone 813-918-7270, email ryan.a.mcnaughton@uscg.mil.

SUPPLEMENTARY INFORMATION: The Coast Guard will enforce the special local regulation in 33 CFR 100.703 for the Bradenton Area River Regatta regulated area identified in Table 1 to § 100.703, item No. 2, from 10 a.m. until 5 p.m. on February 21, 2026. This action is being taken to provide for the safety of life on navigable waterways during this event. Our regulation for marine events, Sector St. Petersburg § 100.703, Item No. 2, specifies the location for the regulated area for the Bradenton Area River Regatta, which encompasses portions of the Manatee River located in Bradenton, FL. Under the provision of § 100.703 all persons and vessels are prohibited from entering the regulated area, except those persons and vessels participating in the event, unless they receive permission to do so from the Coast Guard Patrol Commander, or designated representative.

Spectator vessels may safely transit outside the regulated area, but may not anchor, block, loiter in, impede the transit of festival participants or official patrol vessels or enter the regulated area without approval from the Coast Guard Patrol Commander or a designated representative. The Coast Guard may be assisted by other Federal, State, or local law enforcement agencies in enforcing this regulation. In addition to this notice of enforcement in the Federal Register, the Coast Guard will provide notice of the regulated area via Local Notice to Mariners, Marine Safety Information Bulletins, Broadcast Notice to Mariners, and on-scene designated representatives.

Courtney A. Sergent,
Captain, U.S. Coast Guard, Captain of the Port St. Petersburg.

[FR Doc. 2026-02921 Filed 2-12-26; 8:45 am]

BILLING CODE 9110-04-P